DEPARTMENT OF TRANSPORTATION

Federal Transit Administration

Notice To Rescind Notice of Intent To Prepare an Environmental Impact Statement for the Gateway Corridor Project From Saint Paul to Woodbury in Ramsey and Washington Counties, Minnesota

AGENCY: Federal Transit Administration (FTA), Department of Transportation (DOT).

ACTION: Rescind Notice of Intent (NOI) to prepare an Environmental Impact Statement (EIS).

SUMMARY: The FTA, in cooperation with the Washington County Regional Railroad Authority (WCRRA) and the Metropolitan Council, is issuing this notice to advise the public that the NOI to prepare an EIS for the proposed Gateway Corridor project from Saint Paul to Woodbury in Ramsey and Washington Counties, Minnesota, is being rescinded.

FOR FURTHER INFORMATION CONTACT: Mr. Reggie Arkell, Community Planner, Federal Transit Administration, Region V, 200 West Adams Street, Suite 320, Chicago, IL 60606, phone 312-886-3704, email reginald.arkell@dot.gov.

SUPPLEMENTARY INFORMATION: The FTA, as the lead federal agency, in cooperation with WCRRA and the Metropolitan Council, published a NOI in the Federal Register on February 12, 2014 (79 FR 8530-8532) to prepare an EIS for the proposed Gateway Corridor project. The Gateway Corridor project is a planned transitway approximately nine miles in length located in Ramsey and Washington Counties in the eastern part of the Twin Cities Metropolitan Area, Minnesota. The project is located in a corridor generally parallel to Interstate 94 (I-94). The purpose is to provide improved public transportation between downtown Saint Paul with its east side neighborhoods and the suburban cities of Maplewood, Landfall, Oakdale, and Woodbury. Since the NOI was published, through the environmental review and locally preferred alternative decision-making process, the potential project length has been reduced by approximately three miles and the transit technologies under evaluation have been reduced from light rail transit, bus rapid transit (BRT), and managed lanes to only BRT. Both these changes have minimized the potential impact of the proposed action. FTA, WCRRA, and the Metropolitan Council anticipate that an environmental assessment (EA), leading to a Finding of No Significant Impact (FONSI), would be the appropriate class of action under the National Environmental Policy Act (NEPA) for this project. Therefore, the FTA has decided to rescind the NOI for the EIS.

Comments and questions concerning the proposed actions should be directed to FTA at the address provided above.

Marisol R. Simón,
Regional Administrator.

[FR Doc. 2017-05065 Filed 3-14-17; 8:45 am]

BILLING CODE P